OFFICE OF THE UNITED STATES TRADE REPRESENTATIVE

[Docket No. WTO/DS316]

WTO Dispute Settlement Proceeding Regarding European Communities and Certain Member States—Measures Affecting Trade in Large Civil Aircraft; Notice of Opportunity To View Non-Confidential Session of Dispute Settlement Panel's Second Meeting With the Parties

AGENCY: Office of the United States Trade Representative.

ACTION: Notice.

SUMMARY: The Office of the United States Trade Representative (“USTR”) is providing notice that members of the public have an opportunity to view the non-confidential session of the second substantive meeting of the World Trade Organization (“WTO”) in the dispute European Communities and Certain Member States—Measures Affecting Trade in Large Civil Aircraft (WT/DS316). At the session, parties will make their opening statements and may pose questions or make comments on the other party's statement. The United States does not expect the Panel to pose any questions or make any comments during the session. The session will be videotaped. At an appropriate time after the session is over, the Panel will confirm that no business confidential information was referenced during the session. Public viewing of the videotape will occur after the conclusion of the second substantive meeting, which will take place July 24-26, 2007. In the case of the first panel meeting, the viewing was held the day after the panel meeting concluded, so the viewing could be as early as July 27. Once the WTO announces the time and date of the public viewing, USTR will post that information on its Web site at www.ustr.gov. The public viewing will be held at the World Trade Organization, Centre William Rappard, Rue de Lausanne 154, CH—1211 Geneva 21, Switzerland.

USTR invites any person interested in viewing the non-confidential session to so inform USTR by e-mail at rsvp-DS316@ustr.eop.gov. USTR urges that the request be made as soon as possible and in any event no later than July 20. Requests will be forwarded to the WTO. Each request should indicate the person's full name, contact information (full address, phone, and e-mail), organization (if any), and nationality, and whether the person has made any other request to view the session (such as a request directly to the WTO or to the other party to the dispute, the European Communities).

FOR FURTHER INFORMATION CONTACT: Shane Warren, Assistant General Counsel, Office of the United States Trade Representative, 600 17th Street, NW., Washington, DC, (202) 395-3150.

Daniel E. Brinza,
Assistant United States Trade Representative for Monitoring and Enforcement.

[FR Doc. E7-13945 Filed 7-17-07; 8:45 am]

BILLING CODE 3190-W7-P